DEPARTMENT OF COMMERCE

National Oceanic and Atmospheric Administration

RIN 0648-XQ21

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a joint meeting of the Standing and Special Reef Fish Scientific and Statistical Committee (SSC).

DATES: The meeting will convene at 9 a.m. on Wednesday, July 29, 2009 and conclude by 4 p.m.

ADDRESSES: The meeting will be held at the Quorum, 700 N. Westshore Blvd, Tampa, FL 33609; telephone: (813) 289-8200.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The SSC will meet to review new information presented to the Council by NOAA Fisheries on estimated impacts of mortality reduction on loggerhead sea turtles population dynamics, analyses of the cumulative impacts of Reef Fish Amendment 31 management alternatives on reducing sea turtle takes by reef fish longlines, and a recently published research paper that documents decreasing annual nest counts of loggerhead sea turtles on Florida beaches. The SSC may also review supplemental documents related to the above items. The SSC will evaluate the adequacy of this information for management action to reduce sea turtle takes, recommend a percent reduction in loggerhead sea turtle mortality from reef fish longlines, and will reevaluate its previous recommendations for Amendment 31 in light of this new information. Time permitting, the SSC may also review recent changes in the SEDAR process for conducting stock assessments, review the Council's 5-year list of research priorities, and discuss holding future SSC meetings via web conferencing.

Copies of the agenda and other related materials can be obtained by calling (813) 348-1630.

Although other non-emergency issues not on the agenda may come before the SSCs for discussion, in accordance with the Magnuson-Stevens Fishery Conservation and Management Act (Magnuson-Stevens Act), those issues may not be the subject of formal action during this meeting. Actions of the SSCs will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: July 10 2009.
Tracey L. Thompson,
Acting Director, Office of Sustainable Fisheries, National Marine Fisheries Service.

[FR Doc. E9-16736 Filed 7-14-09; 8:45 am]

BILLING CODE 3510-22-S